DEPARTMENT OF THE TREASURY

Privacy Act, System of Records; Correction

AGENCY: Departmental Offices, Department of the Treasury.

ACTION: Notice of a modified system of records; correction.

SUMMARY: The Department of the Treasury published a document in the Federal Register on November 2, 2023, concerning system location addresses. The document contained incorrect addresses.

DATES: Comments should be received on or before December 4, 2023 to be assured of consideration.

FOR FURTHER INFORMATION CONTACT: Ryan Law, email: privacy@treasury.gov, phone: (202) 622-5710.

SUPPLEMENTARY INFORMATION:

Correction

In the Federal Register of November 2, 2023, in FR Doc 2023-24222, on page 75377 (third column), correct the addresses at numbers (10) and (11) to read:

SYSTEM LOCATION

* * * * *

(10) The Office of Inspector General (OIG): 875 15th Street NW, Washington, DC 20005.

(11) Treasury Inspector General for Tax Administration (TIGTA): 901 D Street SW, Suite 600, Washington, DC 20024-2169.

* * * * *

Ryan Law,
Deputy Assistant Secretary for Privacy, Transparency, and Records.

[FR Doc. 2023-24603 Filed 11-6-23; 8:45 am]

BILLING CODE 4810-AK-P